DEPARTMENT OF THE INTERIOR

Bureau of Land Management

[CA-690-01-1610-JP-064B, C00-0927 WHA-ADR]

Temporary Closure to Camping of Selected Federal Lands in Imperial County, CA

AGENCY: Bureau of Land Management, Interior.

ACTION: Temporary closure to camping east of sand dunes on selected federal lands in Imperial County, California.

DATES: The temporary closure was approved October 18, 2001, and is in effect.

ADDRESSES: Bureau of Land Management, El Centro Field Office, 1661 S. 4th Street, El Centro, CA 92243.

FOR FURTHER INFORMATION CONTACT: Roxie Trost, BLM, El Centro Field Office, 1661 S. 4th Street, El Centro, CA 92243, telephone (760) 337-4400. The camp closure area east of the sand dunes is posted in the El Centro Field Office and at places near and/or within the area to which the closure applies. Maps identifying the affected areas are available at the El Centro Field Office as well as on the Bureau of Land Management (BLM) California Web site at www.ca.blm.gov.

SUPPLEMENTARY INFORMATION: This temporary camping closure is implemented pursuant to title 43 Code of Federal Regulations (CFR) 8341.2(a). The closure was approved October 18, 2001 and will remain in effect until a Record of Decision is signed on the North Eastern Colorado Deserts Bio-regional Plan, which is expected to be signed September 2002.

Exceptions to this closure include government vehicles conducting official business shall be allowed inside the closed areas as authorized. Official business may include public service emergencies, resource monitoring/research, other dunes operations and management activities, and other actions authorized by BLM's El Centro Field Office Manager.

Notice of the proposed closure was published in the Federal Register August 10, 2001 (66 FR 42234).

Dated: October 19, 2001.
Henri Bisson,
Assistant Director for Renewable Resources and Planning.

[FR Doc. 01-26826 Filed 10-22-01; 9:33 am]

BILLING CODE 4310-40-M